NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at Duke University by the Division of Materials Research (DMR) #1203.

Dates & Times: June 13, 2013, 7:15 a.m.-6:45 p.m.

Place: Duke University, Durham, North Carolina.

Type of Meeting: Part open.

Contact Person: Dr. Sean L. Jones, Program Director, Materials Research Science and Engineering Centers Program, Division of Materials Research, Room 1065, National Science Foundation, 4201 Wilson Boulevard, Arlington, VA 22230, Telephone (703) 292-2986.

Purpose of Meeting: To provide advice and recommendations concerning further support of the MRSEC at Duke University.

Agenda: Thursday, June 13, 2013.

7:15 a.m.-9:00 a.m. Closed—Executive Session.

9:00 a.m.-3:00 p.m. Open—Review of the Duke MRSEC.

3:00 p.m.-6:45 p.m. Closed—Executive Session.

Reason for Closing: The work being reviewed may include information of a proprietary or confidential nature, including technical information; financial data, such as salaries and personal information concerning individuals associated with the MRSEC. These matters are exempt under 5 U.S.C. 552 b(c), (4) and (6) of the Government in the Sunshine Act.

Dated: May 16, 2013.
Susanne Bolton,
Committee Management Officer.

[FR Doc. 2013-12095 Filed 5-21-13; 8:45 am]

BILLING CODE 7555-01-P